DEPARTMENT OF THE INTERIOR

National Park Service

[NPS-WASO-NAGPRA-NPS0038998; PPWOCRADN0-PCU00RP14.R50000]

Notice of Inventory Completion: San Diego State University, San Diego, CA

AGENCY: National Park Service, Interior.

ACTION: Notice.

SUMMARY: In accordance with the Native American Graves Protection and Repatriation Act (NAGPRA), San Diego State University (SDSU) has completed an inventory of human remains and has determined that there is no lineal descendant and no Indian Tribe or Native Hawaiian organization with cultural affiliation.

DATES: Upon request, repatriation of the human remains in this notice may occur on or after December 12, 2024.

ADDRESSES: Jaime Lennox, San Diego State University, 5500 Campanile Drive, San Diego, CA 92182, telephone (619) 594-4575, email jlennox@sdsu.edu.

SUPPLEMENTARY INFORMATION: This notice is published as part of the National Park Service's administrative responsibilities under NAGPRA. The determinations in this notice are the sole responsibility of the SDSU, and additional information on the determinations in this notice, including the results of consultation, can be found in its inventory or related records. The National Park Service is not responsible for the determinations in this notice.

Abstract of Information Available

Human remains representing, at least, three individuals have been identified. No associated funerary objects are present. Collections BIOANTH-003 (B94), BIOANTH-004 (#9094), and BIOANTH-005 (#9093) each contain human remains representing one individual, were acquired at an unknown time, received from unknown individuals, and were removed under unknown circumstances from unknown locations. Two of the individuals (BIOANTH-004 and BIOANTH-005) are coated in a clear shellac or resin of unknown substance, applied at an unknown time by an unknown individual.

Consultation

Invitations to consult were sent to the Agua Caliente Band of Cahuilla Indians of the Agua Caliente Indian Reservation, California; Augustine Band of Cahuilla Indians, California; Barbareno Band of Chumash Indians; Barbareno/Ventureno Band of Mission Indians; Big Pine Paiute Tribe of the Owens Valley; Bishop Paiute Tribe; Cabazon Band of Cahuilla Indians (previously listed as Cabazon Band of Mission Indians, California); Cahuilla Band of Indians; Calaveras Band of Mi-Wuk Indians; California Valley Miwok Tribe, California; California Valley Miwok Tribe (Sheep Rancheria of Me-Wuk Indians of CA); Campo Band of Diegueno Mission Indians of the Campo Indian Reservation, California; Captain Grande Band of Diegueno Mission Indians of California (Barona Group of the Capitan Grande Band of Mission Indians of the Barona Reservation, California; Viejas (Baron Long) Group of Capitan Grande Band of Mission Indians of the Viejas Reservation, California); Chemehuevi Indian Tribe of the Chemehuevi Reservation, California; Chicken Ranch Rancheria of Me-Wuk Indians of California; Chumash Council of Bakersfield; Coastal Band of the Chumash Nation; Cocopah Tribe of Arizona; Ewiiaapaayp Band of Kumeyaay Indians, California; Fernandeno Tatviam Band of Mission Indians; Fort Independence Indian Community of Paiute Indians of the Fort Independence Reservation, California; Fort Mojave Indian Tribe of Arizona, California & Nevada; Gabrieleno Band of Mission Indians—Kizh Nation; Gabrieleno/Tongva San Gabriel Band of Mission Indians; Gabrielino/Tongva Nation; Gabrielino Tongva Indians of California Tribal Council; Gabrielino-Tongva Tribe; Iipay Nation of Santa Ysabel, California; Inaja Band of Diegueno Mission Indians of the Inaja and Cosmit Reservation, California; Ione Band of Miwok Indians of California; Jamul Indian Village of California; Juaneno Band of Mission Indians; Juaneno Band of Mission Indians Acjachemen Nation—Belardes; Juaneno Band of Mission Indians Acjachemen Nation 84A; Kern Valley Indian Community; Kitanemuk & Yowlumne Tejon Indians; Kwaaymii Laguna Band of Mission Indians; La Jolla Band of Luiseno Indians, California; La Posta Band of Diegueno Mission Indians of the La Posta Indian Reservation, California; Lone Pine Paiute-Shoshone Tribe; Los Coyotes Band of Cahuilla and Cupeno Indians, California; Manzanita Band of Diegueno Mission Indians of the Manzanita Reservation, California; Mesa Grande Band of Diegueno Mission Indians of the Mesa Grande Reservation, California; Morongo Band of Mission Indians, California; Nashville Enterprise Miwok-Maidu-Nishinam Tribe; Northfork Rancheria of Mono Indians of California; North Valley Yokuts Tribe (Northern Valley Yokut/Ohlone Tribe); Northern Chumash Tribal Council; Pala Band of Mission Indians; Pauma Band of Luiseno Mission Indians of the Pauma & Yuima Reservation, California; Pechanga Band of Indians (previously listed as Pechanga Band of Luiseno Mission Indians of the Pechanga Reservation, California); Quechan Tribe of the Fort Yuma Indian Reservation, California & Arizona; Ramona Band of Cahuilla, California; Rincon Band of Luiseno Mission Indians of Rincon Reservation, California; San Fernando Band of Mission Indians; San Luis Obispo County Chumash Council; San Luis Rey Band of Mission Indians; San Manuel Band of Mission Indians; San Pasqual Band of Diegueno Mission Indians of California; Santa Rosa Band of Cahuilla Indians, California; Santa Ynez Band of Chumash Mission Indians of the Santa Ynez Reservation, California; Serrano Nation of Mission Indians; Soboba Band of Luiseno Indians, California; Southern Sierra Miwuk Nation; Sycuan Band of the Kumeyaay Nation; Timbisha Shoshone Tribe; Torres Martinez Desert Cahuilla Indians, California; Tule River Indian Tribe of the Tule River Reservation, California; Twenty-Nine Palms Band of Mission Indians of California; Washoe Tribe of Nevada & California (Carson Colony, Dresslerville Colony, Woodfords Community, Stewart Community, & Washoe Ranches); Wuksache Indian Tribe/Eshom Valley Band; Xolon-Salinan Tribe; and yak tityu tityu yak tihini—Northern Chumash Tribe.

The following Indian Tribes and Groups responded to the invitations to consult: Agua Caliente Indian Reservation, California; Barbareno/Ventureno Band of Mission Indians; Cahuilla Band of Indians; Campo Band of Diegueno Mission Indians of the Campo Indian Reservation, California; Captain Grande Band of Diegueno Mission Indians of California (Barona Group of the Capitan Grande Band of Mission Indians of the Barona Reservation, California; Viejas (Baron Long) Group of Capitan Grande Band of Mission Indians of the Viejas Reservation, California); Chicken Ranch Rancheria of Me-Wuk Indians of California; Cocopah Tribe of Arizona; Ewiiaapaayp Band of Kumeyaay Indians, California; Fernandeno Tatviam Band of Mission Indians; Fort Independence Indian Community of Paiute Indians of the Fort Independence Reservation, California; Iipay Nation of Santa Ysabel, California; Inaja Band of Diegueno Mission Indians of the Inaja and Cosmit Reservation, California; Jamul Indian Village of California; Juaneno Band of Mission Indians Acjachemen Nation 84A; Kern Valley Indian Community; La Jolla Band of Luiseno Indians, California; La Posta Band of Diegueno Mission Indians of the La Posta Indian Reservation, California; Manzanita Band of Diegueno Mission Indians of the Manzanita Reservation, California; Mesa Grande Band of Diegueno Mission Indians of the Mesa Grande Reservation, California; Pala Band of Mission Indians; Pauma Band of Luiseno Mission Indians of the Pauma & Yuima Reservation, California; Pechanga Band of Indians (previously listed as Pechanga Band of Luiseno Mission Indians of the Pechanga Reservation, California); Rincon Band of Luiseno Mission Indians of Rincon Reservation, California; San Luis Rey Band of Mission Indians; San Manuel Band of Mission Indians; San Pasqual Band of Diegueno Mission Indians of California; Santa Ynez Band of Chumash Mission Indians of the Santa Ynez Reservation, California; Soboba Band of Luiseno Indians, California; Sycuan Band of the Kumeyaay Nation; and the Twenty-Nine Palms Band of Mission Indians of California. Additionally, the United Auburn Indian Community of the Auburn Rancheria of California independently reached out to SDSU.

Cultural Affiliation

The following types of information about the cultural affiliation of the human remains in this notice are available: anthropological, archaeological, biological, geographical, historical, other relevant information, expert opinion, and Native American traditional knowledge. The information, including the results of consultation, identified

1. No earlier group connected to the human remains.

2. Campo Band of Diegueno Mission Indians of the Campo Indian Reservation, California; Captain Grande Band of Diegueno Mission Indians of California (Barona Group of the Capitan Grande Band of Mission Indians of the Barona Reservation, California; Viejas (Baron Long) Group of Capitan Grande Band of Mission Indians of the Viejas Reservation, California); Ewiiaapaayp Band of Kumeyaay Indians, California; Iipay Nation of Santa Ysabel, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation as an Indian Tribe or Native Hawaiian organization connected to the human remains.

3. No relationship of shared group identity between the earlier group and the Indian Tribe or Native Hawaiian organization that can be reasonably traced through time.

Determinations

SDSU has determined that:

• The human remains described in this notice represent the physical remains of three individuals of Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after December 12, 2024. If competing requests for repatriation are received, SDSU must determine the most appropriate requestor prior to repatriation. Requests for joint repatriation of the human remains are considered a single request and not competing requests. SDSU is responsible for sending a copy of this notice to any consulting lineal descendant, Indian Tribe, or Native Hawaiian organization.

Authority: Native American Graves Protection and Repatriation Act, 25 U.S.C. 3003, and the implementing regulations, 43 CFR 10.10.

Dated: October 29, 2024.
Melanie O'Brien,
Manager, National NAGPRA Program.

[FR Doc. 2024-26080 Filed 11-8-24; 8:45 am]

BILLING CODE 4312-52-P